DEPARTMENT OF THE INTERIOR

Bureau of Land Management

[PO #4820000251; OROR106205169; OROR-069823]

Public Land Order No. 7957; Withdrawal of Public Land for the Protection of Three Recreation Sites; Oregon

AGENCY: Bureau of Land Management, Interior.

ACTION: Public land order.

SUMMARY: Subject to valid existing rights, this order withdraws 103.92 acres of Bureau of Land Management (BLM)-administered public lands in Douglas County, Oregon from location and entry under the United States mining laws, but not from leasing under the mineral and geothermal leasing laws, for a period of 20 years to protect the unique recreational values at three public recreation sites. This Public Land Order (PLO) would also withdraw an additional 38.5 acres of non-Federal lands and an additional 21.20 acres of non-Federal subsurface mineral interests in the same manner described in the PLO, should the United States acquire such lands or interests in land in the future.

DATES: This PLO takes effect on January 7, 2025.

FOR FURTHER INFORMATION CONTACT: Luke Poff, Realty Specialist, BLM Oregon/Washington State Office, at 503-808-6001, by email at lpoff@blm.gov, or at the address noted above. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The purpose of the withdrawal is to protect the unique recreational values, as well as current and future site improvements, at the BLM's Island Creek Recreation Area, Iron Mountain Recreation Area, and Olalla-Thompson Day Use Recreation Area. Improvements within these site locations range from gravel parking areas and basic signage at the less developed areas, to paved parking, restrooms, picnic tables, grills, fire rings, and trails at the Island Creek Recreation Area.

Order

By virtue of the authority vested in the Secretary of the Interior by section 204 of the Federal Land Policy and Management Act of 1976, 43 U.S.C. 1714, it is ordered as follows:

1. Subject to valid existing rights, the following described public lands are hereby withdrawn from location and entry under the United States mining laws, but not from leasing under the mineral and geothermal leasing laws, to protect three Bureau of Land Management public recreation sites.

Iron Mountain Recreation Area

Willamette Meridian, Oregon

T. 31 S., R. 7 W.,

Sec. 4, NE¼SE¼, excepting that portion granted to the railroad under the Act of July 25, 1866 (14 Stat. 239).

The area described contains 36.60 acres.

Olalla-Thompson Creek Day Use Area

Willamette Meridian, Oregon

T. 30 S., R. 7 W.,

Sec. 5, SW¼NE¼SW¼, SE¼NW¼SW¼, and N½NE¼SW¼SW¼.

The area described contains 25.00 acres.

Island Creek Recreation Area

Willamette Meridian, Oregon

T. 31 S., R. 7 W.,

Sec. 1, lot 5, excepting that portion of lot 5 granted to the railroad under the Act of July 25, 1866 (14 Stat. 239).

The area described contains 42.32 acres.

2. The following described public lands with non-Federal mineral interests, if mineral rights are acquired by United States, will be subject to the terms and conditions of this withdrawal as described in paragraph 1:

Island Creek Recreation Area

Willamette Meridian, Oregon

T. 30 S., R. 7 W.,

Sec. 36, those portions of the S½SW¼SE¼SW¼ and the S½SE¼SE¼SW¼ lying between the ordinary high-water mark of the easterly bank of Cow Creek and the southerly boundary of the Oregon & California Railroad Grant patent dated May 6, 1896.

T. 31 S., R. 7 W.,

Sec. 1, that portion of the NW¼NW¼ lying between the ordinary high-water mark of the southwesterly bank of Cow Creek and the southerly boundary of the Oregon & California Railroad Grant patent dated May 6, 1896.

The areas described aggregate 21.20 acres.

3. The following described non-Federal lands, if acquired by the United States, will be subject to the terms and conditions of this withdrawal as described in paragraph 1:

Island Creek Special Recreation Site

Willamette Meridian, Oregon

T. 30 S., R. 7 W.,

Sec. 36, S½SW¼SW¼SW¼, S½SE¼SW¼SW¼, S½SW¼SE¼SW¼, and S½SE¼SE¼SW¼, excepting those portions of the S½SW¼SE¼SW¼ and the S½SE¼SE¼SW¼ lying between the ordinary high-water mark of the easterly bank of Cow Creek and the southerly boundary of the Oregon & California Railroad Grant patent dated May 6, 1896.

T. 31 S., R. 7 W.,

Sec. 1, that portion of lot 5 granted to the railroad under the Act of July 25, 1866 (14 Stat. 239), and NW¼NW¼, excepting that portion of the NW¼NW¼ lying between the ordinary high-water mark of the southwesterly bank of Cow Creek and the southerly boundary of the Oregon & California Railroad Grant patent dated May 6, 1896.

The areas described aggregate 38.50 acres.

The total areas described, including public and non-Federal lands, aggregate 163.62 acres.

4. The withdrawal made by this order does not alter the applicability of those public land laws governing the use of the lands under lease, license, or permit, or governing the disposal of their mineral or vegetative resources other than under the mining laws.

5. This withdrawal will expire 20 years from the effective date of this order, unless, as a result of a review conducted before the expiration date pursuant to section 204(f) of the Federal Land Policy and Management Act of 1976, 43 U.S.C. 1714(f), the Secretary determines that the withdrawal shall be extended.

(Authority: 43 U.S.C. 1714)

Robert T. Anderson,
Solicitor.

[FR Doc. 2025-00006 Filed 1-6-25; 8:45 am]

BILLING CODE 4331-24-P